DEPARTMENT OF HOMELAND SECURITY

Coast Guard

33 CFR Part 165

[CGD09-03-209]

RIN 1625-AA11

Regulated Navigation Area; Reporting Requirements for Barges Loaded With Certain Dangerous Cargoes, Illinois Waterway System Within the Ninth Coast Guard District

AGENCY: Coast Guard, DHS.

ACTION: Temporary final rule; request for comments.

SUMMARY: The Coast Guard is establishing a regulated navigation area (RNA) for all portions of the Illinois Waterway System located in the Ninth Coast Guard District. This rule requires that barges loaded with certain dangerous cargoes (CDCs) report their position and other information to the Inland River Vessel Movement Center (IRVMC) and is intended to safeguard vessels, ports and waterfront facilities from sabotage or terrorist acts. This action is necessary to ensure public safety, prevent sabotage or terrorist acts, and facilitate the efforts of emergency services and law enforcement officers responding to terrorist attacks.

DATES: This rule is effective April 16, 2003 through October 31, 2003.

ADDRESSES: You may mail comments and related material to Commander (m), Ninth Coast Guard District, 1240 E. Ninth Street, Cleveland, OH 44199-2060. Commander (m), Ninth Coast Guard District maintains the public docket for this rulemaking. Comments and material received from the public, as well as documents indicated in this preamble as being available in the docket, are part of docket CGD09-03-209 and are available for inspection or copying at Commander (m), Ninth Coast Guard District, 1240 E. Ninth Street, Cleveland, OH 44199-2060 between 8 a.m. and 3:30 p.m., Monday through Friday, except Federal holidays.

FOR FURTHER INFORMATION CONTACT: Commander Michael Gardiner or Lieutenant Matthew Colmer, Ninth Coast Guard District Marine Safety Division, at (216) 902-6045.

SUPPLEMENTARY INFORMATION:

Regulatory Information

We did not publish a notice of proposed rulemaking (NPRM) for this regulation. Under 5 U.S.C. 553(b), the Coast Guard finds that good cause exists for not publishing an NPRM, and under 5 U.S.C. 553(d)(3), good cause exists for making this rule effective less than 30 days after publication in the Federal Register. The Maritime Administration (MARAD) recently issued MARAD Advisory 03-03 (182100Z MAR 03) informing operators of maritime interests of increased threat possibilities to vessels and facilities and a higher risk of terrorist attacks to the transportation community in the United States.

Further, national security and intelligence officials warn that future terrorist attacks against the United States interests are likely. The measures contemplated by this rule are intended to prevent waterborne acts of sabotage or terrorism, which terrorists have demonstrated a capability to carry out. Any delay in making this regulation effective would be contrary to the public interest because immediate action is necessary to protect U.S. maritime transportation interests against the possible loss of life, injury, or damage to property.

Request for Comments

We encourage you to participate in this rulemaking by submitting comments and related material. We encourage comments on whether a Regulated Navigation Area is the appropriate tool for a long-term solution to the security risk at issue. If you do so, please include your name and address, identify the docket number for this rulemaking [CGD09-03-209], indicate the specific section of this document to which each comment applies, and give the reason for each comment. Please submit all comments and related material in an unbound format, no larger than 8½ by 11 inches, suitable for copying. If you would like to know they reached us, please enclose a stamped, self-addressed postcard or envelope. We will consider all comments and material received during the comment period. We may change this temporary final rule in view of them.

Public Meeting

We do not now plan to hold a public meeting. But you may submit a request for a meeting by writing to Commander (m), Ninth Coast Guard District at the address under ADDRESSES explaining why one would be beneficial. If we determine that one would aid this rulemaking, we will hold one at a time and place announced by a later notice in the Federal Register.

Background and Purpose

Terrorist attacks on September 11, 2001, inflicted catastrophic human casualties and property damage. These attacks highlighted terrorists' ability and desire to utilize numerous methods to increase their opportunities to successfully carry out their mission. This includes airborne, waterborne, and land-based threats. This approach maximizes the destructive possibility of their acts.

Since the September 11, 2001 terrorist attacks on the World Trade Center in New York, the Pentagon in Arlington, Virginia and Flight 93, the Federal Bureau of Investigation (FBI) has issued several warnings concerning the potential for additional terrorist attacks within the United States. The threat of maritime attacks is real as evidenced by the October 2002 attack on a tank vessel off the coast of Yemen and the prior attack on the USS COLE. These attacks manifest a continuing threat to U.S. assets as described in the President's finding in Executive Order 13273 of August 21, 2002 (67 FR 56215, September 3, 2002) that the security of the United States is still endangered by terrorist related disturbances in the international relations of the United States that have existed since the terrorist attacks on the United States of September 11, 2001. See also Continuation of the National Emergency with Respect to Certain Terrorist Attacks, (67 FR 58317, September 13, 2002); Continuation of the National Emergency With Respect To Persons Who Commit, Threaten To Commit, Or Support Terrorism, (67 FR 59447, September 20, 2002).

The U.S. Maritime Administration (MARAD) issued Advisory 02-07, which recommends that U.S. shipping interests maintain a heightened state of alert against possible terrorist attacks. MARAD more recently issued Advisory 03-03 informing operators of maritime interests of increased threat possibilities to vessels and facilities and a higher risk of terrorist attacks to the transportation community in the United States. The ongoing hostilities in Afghanistan and the war with Iraq underscore the prudence of U.S. ports and waterways being on a higher state of alert. The heightened state of alert is further supported by declarations and the ongoing intent of the Al Qaeda organization and other similar organizations to conduct armed attacks on U.S. interests worldwide.

This RNA complements a parallel rule issued by the Eighth Coast Guard District on April 16, 2003. The purpose of these complementary rules is to create a consistent and seamless reporting system for the Western Rivers Inland Waterway System within the Eighth and Ninth Coast Guard Districts.

This RNA applies to barges loaded with CDCs operating on the Illinois Waterway System above mile 187.2 to the Chicago Lock on the Chicago River at mile 326.7 and to the confluence of the Calumet River and Lake Michigan at mile 333.5 of the Calumet River. The vessels affected by this RNA transport CDCs that, if used as a weapon of terrorism, could result in substantial loss of life, property and environmental damage, as well as grave economic consequences. This RNA requires operators, as defined in this rule, of barges loading or loaded with CDCs to periodically report their position and other specified information to the Inland River Vessel Movement Center (IRVMC).

If additional information warrants modifying or amending this rule, we will revise the rule and publish the revision in the Federal Register. We will also issue Broadcast Notices to Mariners regarding any such revision. This RNA is issued under authority contained in 33 U.S.C. 1226 and 50 U.S.C. 191.

Discussion of Rule

This rule applies to operators of a barge loaded with or loading CDCs, within the regulated area. This rule does not apply to operators of “empty” barges within the RNA. The terms barge, certain dangerous cargoes (CDCs), downbound, CDC barge, Ninth Coast Guard District, empty, final destination, gas free, loaded, operator, and upbound are defined in the regulatory section of this rule. The operator of a barge(s) loaded with or being loaded with CDCs must report to the IRVMC specific information under the following conditions: 4 hours prior to loading a barge(s) with CDCs; 4 hours prior to dropping off a CDC barge(s) in a fleeting area; 4 hours prior to picking up a CDC barge(s) from a fleeting area; 4 hours prior to getting underway with a CDC barge(s); upon point of entry into the RNA with a CDC barge(s); at designated reporting points in Table 165.T09-209(f); when the estimated time of arrival (ETA) to a reporting point varies by 6 hours from the previously reported ETA; any significant deviation from previously reported information; upon arrival at the “final” destination with a CDC barge(s); upon departing the RNA with a CDC barge(s); and when directed by the IRVMC.

Each report to the IRVMC must contain all the information items specified in Table 165.T09-209(g). Reports must be made to the IRVMC, either by telephone toll free to (866) 442-6089, by fax to (866) 442-6107, or by e-mail to irvmc@cgstl.uscg.mil.

Deviation from this rule is prohibited unless specifically authorized by the Commander, Ninth Coast Guard District or his designated representative.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security. The operational reporting requirements of the RNA are minimal, transitory and necessary to provide immediate, improved security for the public, vessels, and U.S. ports and waterways. The requirements do not alter normal barge cargo loading operations or transits. Additionally, this rule is temporary in nature and the Coast Guard may issue a NPRM as it considers whether to make this rule permanent. Any hardships experienced by persons or vessels are necessary to the national interest in protecting the public, vessels, and vessel crews from the devastating consequences of acts of terrorism, and from sabotage or other subversive acts, accidents, or other causes of a similar nature.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which may be small entities: The operators of barges intending to load CDCs and transit on inland waterways with CDC barge(s) within that portion of the Illinois Waterway System located within the Ninth Coast Guard District. This RNA will not have a significant economic impact on a substantial number of small entities because this rule does not require any alteration of barge operations or transits. The operational communications required by this RNA are transitory in nature and do not require operators to obtain new equipment.

If you think that your business, organization, or governmental jurisdiction qualifies as a small entity and that this rule would have a significant economic impact on it, please submit a comment (see ADDRESSES) explaining why you think it qualifies and how and to what degree this rule would economically affect it.

Assistance for Small Entities

Under subsection 213(a) of the Small Business Regulatory Enforcement Fairness Act of 1996 (Pub. L. 104-121), we offered to assist small entities in understanding the rule so that they can better evaluate its effects on them and participate in the rulemaking process. Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for new collection of information under the Paperwork Reduction Act of 1995 (44 U.S.C. 3501-3520). As defined in 5 CFR 1320.3(c), “collection of information” comprises reporting, recordkeeping, monitoring, posting, labeling, and other, similar actions. The title and description of the information collection, a description of those who must collect the information, and an estimate of the total annual burden follow. The estimate covers the time for reviewing instructions, searching existing sources of data, gathering and maintaining the data needed, and completing and reviewing the collection.

Title: Regulated Navigation Areas; Reporting Requirements for Barges Loaded with Certain Dangerous Cargoes, Inland Rivers, Eighth and Ninth Coast Guard Districts.

OMB Control Number: 1625-0105.

Summary of the Collection of Information: The Coast Guard requires position and intended movement reporting, and cargo transfer and fleeting operations reporting, from barges carrying CDCs in the inland rivers within the Eighth and Ninth Coast Guard Districts. This rule will amend 33 CFR part 165 to temporarily require:

Owners and operators of covered barges must report the following information via toll free telephone, toll free fax, or email:

a. Name of barge and towboat;

b. Name of loading, fleeting, and terminal facility;

c. Estimated time of arrival (ETA) at loading, fleeting and terminal facility;

d. Planned route, including estimated time of departure (ETD) from loading, fleeting, and terminal facility;

e. 4 hours prior to loading covered dangerous cargoes;

f. 4 hours prior to dropping off a covered barge in a fleeting area;

g. 4 hours prior to picking up a covered barge from a fleeting area;

h. 4 hours prior to getting underway with a covered barge;

i. At entry into the covered geographical area;

j. ETA at approximately 148 designated reporting points within the covered geographical area;

k. At any time ETA to a reporting point varies by 6 hours from the previously reported ETA;

l. Any significant deviation from previously reported information;

m. Upon arrival at the “final” destination with a covered barge, if within the covered geographical area;

n. Upon departing the covered geographical area; and

o. When directed by the Coast Guard.

The temporary changes will be in effect through October 31, 2003.

Need for Information: To ensure port safety and security and to ensure the uninterrupted flow of commerce, the Coast Guard must temporarily issue regulations requiring position and intended movement reporting, and cargo transfer and fleeting operations reporting, from barges carrying CDCs in the inland rivers within the Eighth and Ninth Coast Guard Districts.

Proposed use of Information: This information is required to enhance maritime security, control vessel traffic, develop contingency plans, and enforce regulations.

Description of the Respondents: The respondents are owners, agents, masters, operators, or persons in charge of barges loaded with certain dangerous cargoes operating on the inland rivers located within the Eighth and Ninth Coast Guard Districts.

Number of Respondents: The existing OMB-approved collection number of respondents is zero (0). This temporary rule will increase the number of respondents by 3,505 to a total of 3,505.

Frequency of Response: The existing OMB-approved collection annual number of responses is zero (0). This temporary rule will increase the number of responses by 7,711 to a total of 7,711.

Burden of Response: The existing OMB-approved collection burden of response is zero (0). This temporary rule will increase the burden of response by 15 minutes (0.250 hours) to a total of 15 minutes (0.250 hours).

Estimate of Total Annual Burden: The existing OMB-approved collection total annual burden is zero (0). This temporary rule will increase the total annual burden by 1,928 hours to a total of 1,928 hours.

As required by the Paperwork Reduction Act of 1995 (44 U.S.C. 3507(d)), we submitted a copy of this rule to the Office of Management and Budget (OMB) for its review of the collection of information. Due to the circumstances surrounding this temporary rule, we asked for “emergency processing” of our request. We received OMB approval for the collection of information on April 16, 2003. It is valid through October 31, 2003.

We ask for public comment on the collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. We received OMB approval for the collection of information on April 16, 2003. It is valid through October 31, 2003.

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have analyzed this rule under Commandant Instruction M16475.1D, which guides the Coast Guard in complying with the National Environmental Policy Act of 1969 (NEPA) (42 U.S.C. 4321-4370f), and have concluded that there are no factors in this case that would limit the use of categorical exclusion under section 2.B.2 of the Instruction. Therefore, this rule is categorically excluded, under figure 2-1 paragraph (34)(g), of the instruction, from further environmental documentation because this rule is not expected to result in any significant environmental impact as described in NEPA. A final “Environmental Analysis Check List” and a final “Categorical Exclusion Determination” are available in the docket where indicated under ADDRESSES.

List of Subjects in 33 CFR Part 165

Harbors, Marine safety, Navigation (water), Reporting and recordkeeping requirements, Security measures, Vessels, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, and 160.5; Department of Homeland Security Delegation No. 0170.

2. Add temporary § 165.T09-209 to read as follows:

§ 165.T09-209 Regulated Navigation Area; Reporting Requirements for Barges Loaded with Certain Dangerous Cargoes, Illinois Waterway System Within the Ninth Coast Guard District.

(a) Regulated Navigation Area. The following waters are a Regulated Navigation Area (RNA): the Illinois Waterway System above mile 187.2 to the Chicago Lock on the Chicago River at mile 326.7 and to the confluence of the Calumet River and Lake Michigan at mile 333.5 of the Calumet River.

(b) Applicability. This section applies to operators of barges loading or loaded with certain dangerous cargoes (CDCs) within the Regulated Navigation Area. This section does not apply to operators of “empty” CDC barges, as defined in the definitions section.

(c) Definitions. As used in this section:

Barge means a non-self-propelled vessel engaged in commerce. As set out in 33 CFR 160.204, published February 28, 2003 in Notification of Arrival in U.S. Ports, (68 FR 9537, 9544).

Certain Dangerous Cargoes (CDCs) includes any of the following:

(1) Division 1.1 or 1.2 explosives as defined in 49 CFR 173.50, and that is in a quantity in excess of 100 metric tons per barge.

(2) Division 1.5D blasting agents for which a permit is required under 49 CFR 176.415 or, for which a permit is required as a condition of a Research and Special Programs Administration (RSPA) exemption, and that is in a quantity in excess of 100 metric tons per barge.

(3) Division 2.3 “poisonous gas”, as listed in 49 CFR 172.101 that is also a “material poisonous by inhalation” as defined in 49 CFR 171.8, and that is in a quantity in excess of 1 metric ton per barge.

(4) Division 5.1 “Ammonium Nitrate and Certain Ammonium Nitrate Fertilizers” for which a permit is required under 49 CFR 176.415, or for which a permit is required as a condition of a RSPA exemption, and that is in a quantity in excess of 100 metric tons per barge.

(5) A liquid material that has a primary or subsidiary classification of Division 6.1 “poisonous material” as listed in 49 CFR 172.101 that is also a “material poisonous by inhalation”, as defined in 49 CFR 171.8 and that is in a bulk packaging, or that is in a quantity in excess of 20 metric tons per barge when not in a bulk packaging.

(6) Class 7, “highway route controlled quantity” radioactive material or “fissile material, controlled shipment”, as defined in 49 CFR 173.403.

(7) Bulk liquefied chlorine gas and Bulk liquefied gas cargo that is flammable and/or toxic and carried under 46 CFR 154.7.

(8) The following bulk liquids:

(i) Acetone cyanohydrin,

(ii) Allyl alcohol,

(iii) Chlorosulfonic acid,

(iv) Crotonaldehyde,

(v) Ethylene chlorohydrin,

(vi) Ethylene dibromide,

(vii) Methacrylonitrile,

(viii) Oleum (fuming sulfuric acid), and

(ix) Propylene Oxide.

CDC barge means a barge loaded with CDCs.

Downbound means the tow is traveling with the current.

Empty means no product and the barge is certified gas free by a marine chemist.

Final destination means the final destination of the CDC barge(s); fleeting area, receiving facility or terminal.

Gas free means the barge has been certified by a marine chemist to be gas free.

Loaded means the barge is loaded, or containing CDC cargo residue and not gas free.

Ninth Coast Guard District means the Coast Guard District as set out in 33 CFR part 3.45-1.

Operator means any person, including but not limited to an owner, charterer, or contractor, who conducts or is responsible for the operation of a barge.

Upbound means the tow is traveling against the current.

(d) Effective dates. This section is effective from April 16, 2003 through October 31, 2003.

(e) Regulations. (1) The operator of a barge(s) loaded with or being loaded with CDCs in the RNA must report to the Inland River Vessel Movement Center (IRVMC):

(i) 4 hours prior to loading a barge(s) with CDCs:

(ii) 4 hours prior to dropping off a CDC barge(s) at a fleeting area;

(iii) 4 hours prior to picking up a CDC barge(s) from a fleeting area;

(iv) 4 hours prior to getting underway with a CDC barge(s) within the RNA;

(v) Upon point of entry into the RNA with a CDC barge(s);

(vi) At designated reporting points, set forth in Table 165.T09-209(f), in paragraph (f) of this section;

(vii) When the estimated time of arrival (ETA) to a reporting point varies by 6 hours from the previously reported ETA;

(viii) Any significant deviation from previously reported information;

(ix) Upon arrival at a “final” destination with a CDC barge(s);

(x) Upon departing the RNA with a CDC barge(s); and

(xi) When directed by the IRVMC.

(2) Each report to the IRVMC must contain all the information items specified in Table 165.T09-209(g), in paragraph (g) of this section.

(3) Reports required by this section must be made to the IRVMC either by telephone toll free to (866) 442-6089, by fax toll free to (866) 442-6107, or by e-mail to irvmc@cgstl.uscg.mil.

(4) The general regulations contained in 33 CFR 165.13 apply to this section.

(f) Ninth Coast Guard District inland river reporting points. Operators of barges loading or loaded with CDCs must report the information required by this section at the reporting points designated in Table 165.T09-209(f) to this paragraph.

Table 165.T09-209(f). Ninth Coast Guard District Inland River Reporting Points

(1) Illinois River (ILR) Upbound Reporting Points, at Mile Marker (M) and when Departing Lock & Dam (L&D):

(i) M 187.2 Southern Boundary MSO Chicago AOR

(ii) M 271.5 Dresden L&D

(iii) M 291.0 Lockport L&D

(iv) M 303.5 Junction of Chicago Sanitary Ship Canal and Calumet Sag Channel

(v) M 326.4 Thomas S. O'Brien Lock Calumet River

(vi) M 333.5 Confluence of Calumet River and Lake Michigan

(vii) M 326.7 Chicago Lock Chicago River

(2) Illinois River (ILR) Downbound Reporting Points, at mile marker and when Departing Lock & Dam (L&D):

(i) M 326.7 Chicago Lock Chicago River

(ii) M 333.5 Confluence of Calumet River and Lake Michigan

(iii) M 326.4 Thomas S. O'Brien Lock Calumet River

(iv) M 303.5 Junction of Chicago Sanitary Ship Canal and Calumet Sag Channel

(iv) M 291.0 Lockport L&D

(v) M 271.5 Dresden L&D

(vi) M 187.2 Southern Boundary MSO Chicago AOR

(g) Required information to be reported to the Inland River Vessel Movement Center (IRVMC). Operators of barges loading or loaded with CDCs must report the information required by this section, as set out in Table 165.T09-209(g) to this paragraph.

Table 165.T09-209(g).—Required Information To Be Reported to the Inland River Vessel Movement Center (IRVMC)
| 24 hr contact number | Name and location of the facility or terminal where the barge(s) will be loaded. | Name of vessel moving the barge(s) | Barge(s) name | Type, name and amount of CDC to be loaded or onboard | Estimated time of departure from the fleeting area, facility or terminal. | Planned route, name and location of “final destination” (fleeting area, receiving facility or terminal), including estimated date of arrival | Reporting point | Estimated time of arrival (ETA) to next reporting point
(1) 4 hours prior to loading a barge(s) with CDC | X | X |  | X | X |  |  |  |
(2) 4 hours prior to dropping off a CDC barge(s) to a fleeting area |  |  |  | X |  |  | X |  |
(3) 4 hours prior to picking up a CDC barge(s) from a fleeting area | X |  | X | X | X | X | X |  | X
(4) 4 hours prior to getting underway within the RNA | X |  | X | X | X |  | X | X | X
(5) Upon point of entry into the RNA | X |  | X | X | X |  | X | X | X
(6) At designated reporting points in TABLE 165.T09-209 (f) |  |  | X | X | If changed |  | If changed | X | X
(7) When ETA to a reporting point varies by 6 hours from previously reported ETA |  |  | X | X | If changed |  |  |  | X
(8) Any significant deviation from previously reported information | X | X | X | X | X | X | X | X | X
(9) Upon arrival at destination |  |  | X | X |  |  |  |  |
(10) Upon departing the RNA |  |  | X | X |  |  |  | X |
(11) When directed by the IRVMC | X | X | X | X | X | X | X | X | X

(h) Deviation from the requirements of this section is prohibited unless specifically authorized by the Commander, Ninth Coast Guard District or designated representatives. Designated representatives include Captains of the Port within the Ninth Coast Guard District.

(i) In addition to 33 U.S.C. 1231 and 50 U.S.C. 191, the authority for this section includes 33 U.S.C. 1226.

Dated: April 16, 2003.
Ronald F. Silva,
Rear Admiral, Coast Guard, Commander, Ninth Coast Guard District.

[FR Doc. 03-10827 Filed 4-30-03; 9:26 am]

BILLING CODE 4910-15-P